DEPARTMENT OF THE INTERIOR

Geological Survey

[GX23DK20UQP3000; OMB Control Number—1028-NEW]

Agency Information Collection Activities; Broad Agency Announcement for Water Monitoring Technologies

AGENCY: U.S. Geological Survey, Interior.

ACTION: Notice of Information Collection; request for comment.

SUMMARY: In accordance with the Paperwork Reduction Act of 1995, the U.S. Geological Survey (USGS) is proposing a new information collection.

DATES: Interested persons are invited to submit comments on or before January 3, 2023.

ADDRESSES: Send your comments on this information collection request (ICR) by mail to U.S. Geological Survey, Information Collections Officer, 12201 Sunrise Valley Drive, MS 159, Reston, VA 20192; or by email to gs-info_collections@usgs.gov. Please reference OMB Control Number 1028-NEW in the subject line of your comments.

FOR FURTHER INFORMATION CONTACT: To request additional information about this ICR, contact Brian Pellerin by email at bpeller@usgs.gov, or by telephone at 703-648-6865. Individuals who are hearing or speech impaired may call the Federal Relay Service at 1-800-877-8339 for TTY assistance. You may also view the ICR at http://www.reginfo.gov/public/do/PRAMain.

SUPPLEMENTARY INFORMATION: In accordance with PRA and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS Water Mission Area (WMA) operates more than 13,000 real-time water monitoring stations across the United States that provide data vital to understanding water availability and water quality. These data are used by other Federal agencies, state and local governments, and water-management groups to effectively manage this precious natural resource. The public also benefits from this network through important flood and drought warnings as well as informing recreational users of current conditions so they can make safe and economical decisions about accessing rivers, lakes, and reservoirs.

The WMA is seeking proposals from industry, academia, nonprofits, and research institutions for the research and development of innovative water-monitoring technologies that could be deployed as part of the Next Generation Water Observing System (NGWOS) effort ongoing within the USGS. The NGWOS Program is an effort to enhance USGS monitoring in space and time to support resource assessments, water management, and ultimately water prediction.

The USGS plans to issue contracts and cooperative agreements in support of this program through a Broad Agency Announcement (BAA), which is a competitive solicitation issued to facilitate the cooperative development of next generation water-monitoring technologies. Single entities or teams from the private sector, academic institutions, Federal agencies, state and local governments, and tribes are eligible to submit proposals. No group of entities is excluded from eligibility. The USGS collects information from applicants about their proposed research activities and team capabilities and then uses that information to determine awards.

Title of Collection: Broad Agency Announcement.

OMB Control Number: 1028-NEW.

Form Number: None.

Type of Review: New.

Respondents/Affected Public: Single entities or teams from the private sector, academic institutions, Federal agencies, state and local governments, and tribes are eligible to submit proposals.

Total Estimated Number of Annual Respondents: 30.

Total Estimated Number of Annual Responses: 30.

Estimated Completion Time per Response: 80 hours.

Total Estimated Number of Annual Burden Hours: 2,400.

Respondent's Obligation: Required to Obtain or Retain a Benefit.

Frequency of Collection: annually.

Total Estimated Annual Nonhour Burden Cost: none.

An agency may not conduct or sponsor, nor is a person required to respond to, a collection of information unless it displays a currently valid OMB control number.

The authority for this action is the PRA (44 U.S.C. 3501 et seq.).

Brian Pellerin,
Acting Program Manager, NGWOS, USGS.

[FR Doc. 2022-23698 Filed 10-31-22; 8:45 am]

BILLING CODE 4338-11-P